DEPARTMENT OF HEALTH AND HUMAN SERVICES

Administration for Children and Families

Submission for OMB Review; Comment Request

Title: Projects of National Significance—Family Support 360.

OMB No.: New collection.

Description: The Administration on Developmental Disabilities (ADD), part of the Administration for Children and Families (ACF), U.S. Department of Health and Human Services (HHS), funds the Projects National Significance Family Support 360 (FS 360) Initiative. As with any program of Federal assistance to the States, it is in the public's interest to determine the extent to which it has the desired impacts. To complete this task with scientific rigor, it will be necessary to collect high quality survey data from the participants in the 17 funded programs across the nation.

ADD has already designed the instruments, methodologies, procedures, and analytical techniques for this task. Moreover, they have been pilot tested in 11 States. The tools and techniques were submitted for review, and were approved, by Institutional Review Boards for the Protection of Human Subjects (IRB) in those States in which IRB approval was necessary. The tools and techniques were repeatedly revised and improved, then applied successfully.

These instruments and methods are all aimed to answer the elementary scientific outcome questions: Are the participants in the FS 360 programs “better off” because of their participation? If so, how much, in what way(s), and at what public cost?

This information will inform public policy regarding the best methods to deliver important supports to families of individuals with developmental disabilities.

Respondents: The respondents are the families of and individuals with developmental disabilities who participate in the ADD Family Supports 360 grant programs at 17 sites across the nation. Ten of the sites are focused on military families, and the other seven are focused on civilian families. Each year will consist of a pre and post assessment. On an annual basis, it is expected that 680 participating families will be encouraged to participate. Of this number, it is estimated that interviews will be completed with 510 or 75 percent (some families may not give informed consent or may miss the appointment for interviews).

Annual Burden Estimates
Instrument | Number of respondents | Number of responses per respondent | Average burden hours per response | Total burden hours
The survey instrument is called the Impact Assessment for Family Support 360 Participants. It does not have a common acronym or ACF report number. It is a very brief two page protocol derived from twenty years of quality of life research in the developmental disabilities field. | 680 | 1 | 0.52 | 353.60

Estimated Total Annual Burden Hours:

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Fax: 202-395-7285, E-mail: OIRA_SUBMISSION@OMB.EOP.GOV, Attn: Desk Officer for the Administration for Children and Families.

Dated: November 16, 2010.
Robert Sargis,
Reports Clearance Officer.

[FR Doc. 2010-29293 Filed 11-19-10; 8:45 am]

BILLING CODE 4184-01-P